SOCIAL SECURITY ADMINISTRATION

20 CFR Parts 404 and 416

RIN 0960-AF18

Federal Old-Age, Survivors and Disability Insurance; Supplemental Security Income; Determining Disability and Blindness; Revisions to the Growth Impairment Listings

AGENCY: Social Security Administration (SSA).

ACTION: Notice of intent to issue regulations and request for comments.

SUMMARY: This document ask experts on growth impairments in children, and other interested members of the public, for comments on how we should revise the growth impairment listings in our “Listing of Impairments,” in appendix 1 to subpart P of 20 CFR part 404 (“the listings”). The growth impairment listings contain the medical criteria we use to evaluate disability claims for children with linear growth impairments at the third step of our sequential evaluation of disability for children.

DATES: To be sure your comments are considered, we must receive them no later than August 14, 2000.

ADDRESSES: Comments should be submitted in writing to the Commissioner of Social Security, P.O. Box 17703, Baltimore, MD 21235-7703, sent by telefax to (410) 966-2830; sent by e-mail to regulations@ssa.gov, or delivered to the Office of Process and Innovation Management, Social Security Administration, L2109 West Low Rise Building, 6401 Security Boulevard, Baltimore, MD 21235-6401, between 8:00 A.M. and 4:30 P.M. on regular business days. Comments may be inspected during these hours by making arrangements with the contact person shown below.

FOR FURTHER INFORMATION CONTACT: Regina Connell, Social Insurance Specialist, Office of Disability, 3-A-9 Operations Building, Social Security Administration, 6401 Security Boulevard, Baltimore, MD 21235-6401; (410) 965-1891 or TTY (410) 966-5609 for information about this notice. For information on eligibility or claiming benefits, call our national toll-free numbers, 1-800-772-1213 or TTY 1-800-325-0778.

SUPPLEMENTARY INFORMATION:

Background

This notice ask experts on growth impairments in children, and other interested members of the public, for comments that will help us decide how we should revise section 100.00 of the listings. We use the criteria in the listings to evaluate disability claims under both the Social Security disability insurance (title II) and Supplemental Security Income (SSI) (title XVI) programs at the third step of the sequential evaluation processes for adults and children. The listings describe impairments that are considered severe enough to prevent a person from doing any gainful activity. In the case of a child under age 18 seeking SSI benefits based on disability, the listings describe impairments that are considered severe enough to cause marked and severe functional limitations. For more information on the definitions of disability and on the sequential evaluation processes, see 20 CFR § § 404.1505 and 404.1520 (for title II), 416.905 and 416.920 (for SSI adults), and 416.906 and 416.924 (for children claiming SSI benefits based on disability).

The listings are divided into Part A and Part B. Part A contains medical criteria that we use to evaluate claims filed by individuals age 18 and over. The Part A listings can also apply to children if the disease processes have a similar effect on adults and younger persons. Part B contains medical criteria that apply only to children. In both parts, the impairments are grouped by major body systems; e.g., musculoskeletal, cardiovascular, and mental. More complete explanations of the listings and their role in the disability evaluation process are set out in 20 CFR § § 404.1525 and 404.1526 (for title II) and 20 CFR § § 416.925, 416.926, and 416.926a (for SSI).

Section 100.00 of the listings is in Part B and contains the medical criteria we use to evaluate linear growth impairments in children. Section 100.00 consists of a preface that explains key concepts used in the section, and two growth impairment listings: 100.02 and 100.03. Listings 100.02 and 100.03 involve only linear growth impairments; i.e., impairments that affect a child's length or height. We also refer to the growth impairment listings in other Part B body systems listings for cases in which certain specified disease processes cause impaired linear growth. For example, in the cardiovascular body system, listing 104.06G provides criteria for evaluating congenital heart disease that is accompanied by growth failure “as described in 100.00.” When we revise the current growth impairment listings, we may also have to revise the body system listings that refer to the growth impairment listings.

Other listings do not refer to the linear growth impairment listings in section 100.00, but include weight-related growth criteria. For example, listing 103.02E.6 contains criteria for evaluating bronchopulmonary dysplasia that is accompanied by involuntary weight loss or failure to gain weight at an appropriate rate for the child's age. Several other listings, including listings 104.02D, 105.08, and 114.08I, also include weight-related growth criteria. If we include weight-related criteria in the revised growth impairment listings, we may also have to revise those body system listings that now include weight-related criteria.

We first published the Part B childhood listings, including the growth impairment listings, in the Federal Register on March 16, 1977 (42 FR 14705). We made minor changes to the growth impairment listings on December 6, 1985 (50 FR 50068). Since 1985, we have extended the expiration date for the growth impairment listings without making further revisions. Currently, the growth impairment listings will no longer be effective on July 2, 2001, unless we extend, revise or promulgate them again by publication of a final rule in the Federal Register (64 FR 29786). We plan to revise the current growth impairment listings before they expire on July 2, 2001.

We will make revisions to ensure that the criteria in the listings reflect any advances in medical knowledge regarding children with linear growth impairments, and to ensure that the criteria in the listings reflect a level of severity that results in “marked and severe functional limitations.”

Request for Comments

Information about growth impairments in children, especially the functional consequences of such impairments, is not readily available. Therefore, we are using this method of requesting comments before formally proposing any revisions to the listings. We want to give interested members of the public an early opportunity to provide us with information about growth impairments in children as we begin the rulemaking process. We are asking experts on growth impairments in children and other interested members of the public for ideas about how we should revise the existing growth impairment listings, including the material in the preface. We are particularly interested in determining if any scientific research shows a relationship between growth impairments and loss of functioning, and whether and how impaired linear growth affects a child's functioning.

In addition, we are interested in comments on whether the criteria for evaluating weight-related impaired growth or failure to thrive in children should be included in revised growth impairment listings, or included in other body system listings as they are now. We are interested in any suggestions about revising those portions of the other body system listings that directly reference the linear growth impairment listings, or that mention a child's growth (including weight) without specifying linear growth or the growth impairment listings.

We will consider your comments along with other information, such as medical research, and our program experience. Based on all of that information, we will decide how to revise the growth impairment listings. We will not respond to your comments directly. However, when we propose revisions to the growth impairment listings, we will publish a Notice of Proposed Rulemaking (NPRM) in the Federal Register and include a formal request for comments. In that case, we will consider and respond to significant comments that we receive in response to the NPRM when we issue any final rules.

Electronic Version

The electronic file of this document is available on the Internet at http://www.access.gpo.gov/su_docs/aces/aces140. It is also available on the Internet site for SSA (i.e., SSA Online) at http://www.ssa.gov/.

(Catalog of Federal Domestic Assistance Programs Nos. 96.001, Social Security-Disability Insurance; and 96.006, Supplemental Security Income)

List of Subjects

20 CFR Part 404

Administrative practice and procedure. Blind, Old-age, Survivors and Disability benefits, Old-age, Survivors and Disability Insurance, Reporting and recordkeeping requirements, Social Security.

20 CFR Part 416

Administrative practice and procedure, Aged, Blind, Disability benefits, Public assistance programs, Reporting and recordkeeping requirements, Supplemental Security Income (SSI).

Dated: June 5, 2000.
Kenneth S. Apfel,
Commissioner of Social Security.

[FR Doc. 00-14841 Filed 6-13-00; 8:45 am]

BILLING CODE 4191-02-P